DEPARTMENT OF EDUCATION

Office of Special Education and Rehabilitative Services Overview Information; National Institute on Disability and Rehabilitation Research (NIDRR)—Disability and Rehabilitation Research Projects and Centers Program—Advanced Rehabilitation Research Training (ARRT) Projects

AGENCY: Office of Special Education and Rehabilitative Services, Department of Education.

ACTION: Notice reopening the Advanced Rehabilitation Research Training (ARRT) Projects fiscal year (FY) 2010 competition.

Catalog of Federal Domestic Assistance (CFDA) Number: 84.133P-1.

SUMMARY: On December 11, 2009, we published in the Federal Register (74 FR 65765-65769) a notice inviting applications for the Advanced Rehabilitation Research Training Projects FY 2010 competition. The notice established a February 9, 2010 deadline date for eligible applicants to apply for funding under this program.

The Department of Education announces the reopening of the competition for new awards under National Institute on Disability and Rehabilitation Research (NIDRR)—Disability and Rehabilitation Research Projects and Centers Program—Advanced Rehabilitation Research Training (ARRT) Projects for Fiscal Year (FY) 2010.

We are establishing a new deadline date for the transmittal of applications. We are taking this action because the recent closure of the U.S. Federal government on February 5, 8, and 9, 2010 due to blizzard conditions in the Mid-Atlantic Region may have interfered with applicants' ability to access needed technical assistance through the e-Grants Help Desk. The reopening is intended to ensure that all potential applicants have the opportunity to submit applications under this competition. If you have already successfully submitted an e-application for this grant competition, you do not need to resubmit your application.

Deadline for Transmittal of Applications: April 1, 2010.

Note: Applications for grants under this program must be submitted electronically using e-Application, accessible through the Department of Education's e-grants Web site at: http://e-grants.ed.gov.

For information about how to submit your application electronically, please refer to Electronic Submission of Application in the December 11, 2010 notice (74 FR 65765-65769). We encourage applicants to submit their applications as soon as possible to avoid any problems with filing electronic applications on the last day.

FOR FURTHER INFORMATION CONTACT: Marlene Spencer, U.S. Department of Education, 400 Maryland Avenue, SW., Room 6026, Potomac Center Plaza (PCP), Washington, DC 20202-2700. Telephone: (202) 245-7532 or by e-mail: Marlene.Spencer@ed.gov.

If you use a telecommunications device for the deaf (TDD), you may call the Federal Relay Service (FRS) at 1-800-877-8339.

Accessible Format: Individuals with disabilities may obtain this notice in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as other Department of Education documents published in the Federal Register, in text or Adobe Portable Document Format (PDF) on the Internet at the following site: http://www.ed.gov/news/fedregister.

To use PDF you must have Adobe Acrobat Reader, which is available free at this site.

Note: The official version of this document is the document published in the Federal Register. Free Internet access to the official edition of the Federal Register and the Code of Federal Regulations is available on GPO Access at: http://www.gpoaccess.gov/nara/index.html.

Dated: March 15, 2010.
Alexa Posny,
Assistant Secretary for Office of Special Education and Rehabilitative Services.

[FR Doc. 2010-5975 Filed 3-17-10; 8:45 am]

BILLING CODE 4000-01-P